DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Patent Processing (Updating).

Form Number(s): PTO/SB/08/08a/08b, PTO/SB/17i, PTO/SB/17P, PTO/SB/21-27, PTO/SB/24B, PTO/SB/30-32, PTO/SB/35-39, PTO/SB/42-43, PTO/SB/61-64, PTO/SB/64a, PTO/SB/67-68, PTO/SB/91-92, PTO/SB/96-97, PTO-2053-A/B, PTO-2054-A/B, PTO-2055-A/B, PTOL/413A.

Agency Approval Number: 0651-0031.

Type of Request: Revision of a currently approved collection.

Burden: 3,527,991 hours.

Number of Respondents: 2,508,239 responses.

Avg. Hours Per Response: 1 minute 48 seconds to 12 hours. The USPTO estimates that it will take 2 hours to complete the information disclosure statements (IDS) that do not require any additional disclosure requirement, 4 hours to complete the IDS submitted during the first time period that require the explanation, 5 hours to complete the IDS submitted during the second time period that require the explanation and non-cumulative description, 6 hours to complete the IDS submitted during the third time period that require the first patentability justification, and 7 hours to complete the IDS submitted during the third or fourth time period that require the second patentability justification. The response time is expected to be the same for both the paper and eIDS filings, but given the current limitations on IDS submissions via eIDS, it is anticipated that only IDSs that do not require additional disclosure statements will be filed via eIDS. This includes time to gather the necessary information, prepare the appropriate form, and submit the information in this collection.

Needs and Uses: The proposed changes to information disclosure submission (IDS) requirements will benefit applicants by improving the quality and efficiency of the examination process. The USPTO is submitting this collection in support of a notice of proposed rulemaking entitled “Changes to Information Disclosure Requirements and Other Related Matters” (RIN 0651-AB95). There are two existing paper forms and one EFS-Web form associated with this proposed rulemaking; however, the changes in this proposed rulemaking do not necessitate any changes to the existing forms.

Affected Public: Individuals or households; business or other for-profit; not-for-profit institutions; farms, the Federal Government, and State, Local or Tribal Governments.

Frequency: On occasion.

Respondent's Obligation: Required to obtain or retain benefits.

OMB Desk Officer: David Rostker, (202) 395-3897.

Copies of the above information collection proposal can be obtained by any of the following methods:

E-mail: Susan.Brown@uspto.gov. Include “0651-0031 copy request” in the subject line of the message.

Fax: 571-273-0112, marked to the attention of Susan Brown.

Mail: Susan K. Brown, Records Officer, Office of the Chief Information Officer, Office of Data Architecture and Services, Data Administration Division, U.S. Patent and Trademark Office, P.O. Box 1450, Alexandria, VA 22313-1450.

Written comments and recommendations for the proposed information collection should be sent on or before August 11, 2006 to David Rostker, OMB Desk Officer, Room 10202, New Executive Office Building, 725 17th Street NW., Washington, DC 20503.

Dated: July 3, 2006.
Susan K. Brown,
Records Officer, USPTO, Office of Data Architecture and Services, Data Administration Division.

[FR Doc. E6-10916 Filed 7-11-06; 8:45 am]

BILLING CODE 3510-16-P